Title 3—

The President

Memorandum of May 23, 2012

Building a 21st Century Digital Government

Memorandum for the Heads of Executive Departments and Agencies

The innovative use of technology is fundamentally transforming how the American people do business and live their daily lives. Exponential increases in computing power, the rise of high-speed networks, and the growing mobile revolution have put the Internet at our fingertips, encouraging innovations that are giving rise to new industries and reshaping existing ones.

Innovators in the private sector and the Federal Government have used these technological advances to fundamentally change how they serve their customers. However, it is time for the Federal Government to do more. For far too long, the American people have been forced to navigate a labyrinth of information across different Government programs in order to find the services they need. In addition, at a time when Americans increasingly pay bills and buy tickets on mobile devices, Government services often are not optimized for smartphones or tablets, assuming the services are even available online.

On April 27, 2011, I issued Executive Order 13571 (Streamlining Service Delivery and Improving Customer Service), requiring executive departments and agencies (agencies) to, among other things, identify ways to use innovative technologies to streamline their delivery of services to lower costs, decrease service delivery times, and improve the customer experience. As the next step toward modernizing the way Government works, I charged my Federal Chief Information Officer (CIO) with developing a comprehensive Government-wide strategy to build a 21st century digital Government that delivers better digital services to the American people.

Today, the CIO is releasing that strategy, entitled “Digital Government: Building a 21st Century Platform to Better Serve the American People” (Strategy), which provides agencies with a 12-month roadmap that focuses on several priority areas. The Strategy will enable more efficient and coordinated digital service delivery by requiring agencies to establish specific, measurable goals for delivering better digital services; encouraging agencies to deliver information in new ways that fully utilize the power and potential of mobile and web-based technologies; ensuring the safe and secure delivery and use of digital services to protect information and privacy; requiring agencies to establish central online resources for outside developers and to adopt new standards for making applicable Government information open and machine-readable by default; aggregating agencies' online resource pages for developers in a centralized catalogue on www.Data.gov; and requiring agencies to use web performance analytics and customer satisfaction measurement tools on all “.gov” websites.

Ultimately, this Strategy will ensure that agencies use emerging technologies to serve the public as effectively as possible. As a Government, and as a trusted provider of services, we must never forget who our customers are—the American people.

In order to ensure that agencies make the best use of emerging technologies in serving the public, I hereby direct each agency to take the following actions:

(1) implement the requirements of the Strategy within 12 months of the date of this memorandum and comply with the timeframes for specific actions specified therein; and

(2) within 90 days of the date of this memorandum, create a page on its website, located at www.[agency].gov/digitalstrategy, to publicly report progress in meeting the requirements of the Strategy in a machine-readable format.

This memorandum shall be implemented consistent with applicable law and subject to the availability of appropriations, and with appropriate protections for privacy and civil liberties.

The Director of the Office of Management and Budget is authorized and directed to publish this memorandum in the Federal Register.

THE WHITE HOUSE,

Washington, May 23, 2012

[FR Doc. 2012-13470

Filed 5-31-12; 8:45 am]

Billing code 3295-F2-P